AGENCY FOR INTERNATIONAL DEVELOPMENT

Notice of Meeting

Pursuant to the Federal Advisory Committee Act, notice is hereby given of a meeting of the Advisory Committee on Voluntary Foreign Aid (ACVFA).

Date: Wednesday, June 7, 2006 (9 a.m. to 4 p.m.)

Location: Cloyd Heck Marvin Center, Dorothy Betts Marvin Theater, George Washington University, 800 21st Street, NW., Washington, DC 20052.

Please note that this is the anticipated agenda and is subject to change.

Foreign Assistance Reforms: Ambassador Randall L. Tobias, Director of Foreign Assistance and USAID's Administrator, has been invited to give the keynote address on the role of U.S. foreign assistance in advancing the goals of the Secretary's “Transformational Diplomacy” strategy.

Trade and Africa: Lloyd Pierson, USAID's Assistant Administrator for Africa, has been invited to brief the Committee on the concurrent AGOA Forum with particular attention to USAID's role as implementing partner and the impact of the trade hubs on African economic growth.

HIV/AIDS: Recognizing the 25th anniversary of the first diagnosed case of HIV/AIDS, the Committee will receive an update on the President's Emergency Plan for AIDS Relief and the New Partners Initiative. In addition, testing and prevention as well as lessons learned from USAID partners will be discussed. Invited speakers include Dr. Mark Dybul, Acting U.S. Global AIDS Coordinator, and Dr. Timothy Flanigan, Chief of the Division of Infectious Diseases, Department of Medicine, Brown University.

The meeting is free and open to the public. Persons wishing to attend the meeting can register online at http://www.usaid.gov/about_usaid/acvfa or contact Kristin Holland at kristin@websterconsulting.com or 202-237-0090 extension 10 or Jocelyn Rowe at jrowe@usaid.gov or 202-712-4002.

Dated: May 15, 2006.
Jocelyn M. Rowe,
Executive Director, Advisory Committee on Voluntary Foreign Aid (ACVFA), U.S. Agency for International Development.

[FR Doc. E6-7656 Filed 5-18-06; 8:45 am]

BILLING CODE 6116-01-P